DEPARTMENT OF HEALTH AND HUMAN SERVICES

Centers for Medicare & Medicaid Services

[Document Identifier CMS-588, CMS-10079 and CMS-10311]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Reinstatement without change of a previously approved collection; Title of Information Collection: Electronic Funds Transfer Authorization Agreement; Use: Section 1815(a) of the Social Security Act provides the authority for the Secretary of Health and Human Services to pay providers/suppliers of Medicare services at such time or times as the Secretary determines appropriate (but no less frequently than monthly). Under Medicare, CMS, acting for the Secretary, contracts with Fiscal Intermediaries and Carriers to pay claims submitted by providers/suppliers who furnish services to Medicare beneficiaries. Under CMS' payment policy, Medicare providers/suppliers have the option of receiving payments electronically. Form number CMS-588 authorizes the use of electronic fund transfers (EFTs). Form Number: CMS-588 (OMB#: 0938-0626); Frequency: Reporting—On occasion; Affected Public: Business or other for-profit and Not-for-profit institutions; Number of Respondents: 100,000; Total Annual Responses: 100,000; Total Annual Hours: 100,000. (For policy questions regarding this collection contact Kim McPhillips at 410-786-5374. For all other issues call 410-786-1326.)

2. Type of Information Collection Request: Revision of a currently approved collection; Title of Information Collection: Hospital Wage Index Occupational Mix Survey and Supporting Regulations in 42 CFR, Section 412.64; Use: Section 304(c) of Public Law 106-554 amended section 1886(d) (3) (E) of the Social Security Act to require CMS to collect data every 3 years on the occupational mix of employees for each short-term, acute care hospital participating in the Medicare program, in order to construct an occupational mix adjustment to the wage index, for application beginning October 1, 2004 (the FY 2005 wage index). The purpose of the occupational mix adjustment is to control for the effect of hospitals' employment choices on the wage index. Refer to the summary of changes document for a list of current changes. Form Number: CMS-10079 (OMB#: 0938-0907); Frequency: Reporting—Yearly, Biennially and Occasionally ; Affected Public: Private Sector—Business or other for-profits and Not-for-profit institutions; Number of Respondents: 3,522; Total Annual Responses: 3,522; Total Annual Hours: 1,690,560. (For policy questions regarding this collection contact Taimyra Jones at 410-786-1562. For all other issues call 410-786-1326.)

3. Type of Information Collection Request: New collection; Title of Information Collection: Medicare Program/Home Health Prospective Payment System Rate Update for Calendar Year 2010: Physician Narrative Requirement and Supporting Regulation in 42 CFR 424.22; Use: The Centers for Medicare and Medicaid Services (CMS) require that a physician sign every patient's individual plan of care certifying or recertifying that the patient is homebound and the planned services are medically necessary in order for the home health agency to be reimbursed for Medicare covered services as stipulated in 42 CFR 424.22. CMS is relying on physicians to fulfill a role that is sometimes thought of as a “gatekeeper” by requiring the physician to provide a narrative located within the home health certification or recertification when skilled nursing management & evaluation of the plan of care, (PoC) is ordered. The physician's narrative is required when a patient's underlying condition or complication requires a registered nurse to ensure that essential non-skilled care is achieving its purpose, The narrative must be located immediately prior to the physician's signature. If the narrative exists as an addendum to the certification or recertification form, in addition to the physician's signature on the certification or recertification form, the physician must sign immediately following the narrative in the addendum. This change supports Medicare's home health coverage criteria for skilled services as stipulated in the CFR, (see 42 CFR 409.42). Form Number: CMS-10311 (OMB#: 0938-New); Frequency: Annually; Affected Public: Business or other for-profit and Not-for-profit institutions; Number of Respondents: 345,600; Total Annual Responses: 345,600; Total Annual Hours: 28,800. (For policy questions regarding this collection contact Randy Throndset at 410-786-0131. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on February 16, 2010. OMB, Office of Information and Regulatory Affairs, Attention: CMS Desk Officer, Fax Number: (202) 395-6974, E-mail: OIRA_submission@omb.eop.gov.

Dated: January 8, 2010.
Michelle Shortt,
Director, Regulations Development Group, Office of Strategic Operations and Regulatory Affairs.

[FR Doc. 2010-712 Filed 1-14-10; 8:45 am]

BILLING CODE 4120-01-P